DEPARTMENT OF COMMERCE

International Trade Administration

[A-570-831]

Continuation of Antidumping Duty Order on Fresh Garlic From the People's Republic of China

AGENCY: Import Administration, International Trade Administration, Department of Commerce.

ACTION: Notice of continuation of antidumping duty order on fresh garlic from the People's Republic of China.

SUMMARY: On July 5, 2000, the Department of Commerce (“the Department”), pursuant to sections 751(c) and 752 of the Tariff Act of 1930, as amended (“the Act”), determined that revocation of the antidumping duty order on fresh garlic from the People's Republic of China (“PRC”) would be likely to lead to continuation or recurrence of dumping. See Fresh Garlic From the People's Republic of China; Final Results of Expedited Sunset Review of Antidumping Duty Order (65 FR 41432).

On February 28, 2001, the International Trade Commission (“the Commission”), pursuant to section 751(c) of the Act, determined that revocation of the antidumping duty order on fresh garlic from the PRC would be likely to lead to continuation or recurrence of material injury to an industry in the United States within a reasonably foreseeable time. See Fresh Garlic from China, 66 FR 12810 (February 28, 2001). Therefore, pursuant to 19 CFR 351.218(f)(4), the Department is publishing this notice of continuation of the antidumping duty order on fresh garlic from the PRC.

Effective Date: March 13, 2001.

FOR FURTHER INFORMATION CONTACT: Martha V. Douthit or James P. Maeder, Office of Policy for Import Administration, International Trade Administration, U.S. Department of Commerce, 14th Street and Constitution Ave., NW., Washington, DC 20230; telephone: (202) 482-5050 or (202) 482-3330, respectively.

SUPPLEMENTARY INFORMATION:

Background

On December 1, 1999, the Department initiated (64 FR 67247), and the Commission instituted (64 FR 67315), a sunset review of the antidumping duty order on fresh garlic from the PRC pursuant to section 751(c) of the Act. As a result of its review, the Department found on July 5, 2000, that revocation of the antidumping duty order on fresh garlic from the PRC (65 FR 41432) would likely lead to continuation or recurrence of dumping and notified the Commission of the magnitude of the margin likely to prevail were the order revoked.

On February 28, 2001, the Commission determined, pursuant to section 751(c) of the Act, that revocation of the antidumping duty order on fresh garlic from the PRC would be likely to lead to continuation or recurrence of material injury to an industry in the United States within a reasonably foreseeable time. See 66 FR 12810 (February 28, 2001) and USITC Publication 3393 (February 2001) Investigation Nos. 731-TA-683 (Review).

Scope of the Order

The product subject to this antidumping duty order is all grades of garlic, whole or separated into constituent cloves, whether or not peeled, fresh, chilled, frozen, provisionally preserved, or packed in water or other neutral substance, but not prepared or preserved by the addition of other ingredients or heat processing. The differences between grades are based on color, size, sheathing, and level of decay. The scope of this order does not include the following: (a) Garlic that has been mechanically harvested and that is primarily, but not exclusively, destined for non-fresh use; or (b) garlic that has been specially prepared and cultivated prior to planting and then harvested and otherwise prepared for use as seed. The subject garlic is currently classifiable under subheadings 0703.20.0010, 0703.20.0020, 0703.20.0090, 0710.80.7060, 0710.80.9750, 0711.90.6000, and 2005.90.9700 of the Harmonized Tariff Schedule of the United States (HTSUS). Although the HTSUS subheadings are provided for convenience and customs purposes, our written description of the scope of this proceeding is dispositive. In order to be excluded from the antidumping duty order, garlic entered under the HTSUS subheadings listed above that is (1) mechanically harvested and primarily, but not exclusively, destined for non-fresh use or (2) specially prepared and cultivated prior to planting and then harvested and otherwise prepared for use as seed must be accompanied by declarations to the Customs Service to that effect.

Determination

As a result of the determinations by the Department and the Commission that revocation of the antidumping duty order would be likely to lead to continuation or recurrence of dumping and material injury to an industry in the United States, pursuant to section 751(d)(2) of the Act, the Department hereby orders the continuation of the antidumping duty order on fresh garlic from China. The effective date of continuation of this order will be the date of publication in the Federal Register of this Notice of Continuation. Pursuant to section 751(c)(2) and 751(c)(6) of the Act, the Department intends to initiate the next five-year review of this order not later than February 2006.

Effective January 20, 2001, Bernard T. Carreau is fulfilling the duties of the Assistant Secretary for Import Administration.

Dated: March 7, 2001.
Bernard T. Carreau,
Deputy Assistant Secretary, Import Administration.

[FR Doc. 01-6227 Filed 3-12-01; 8:45 am]

BILLING CODE 3510-DS-P